ENVIRONMENTAL PROTECTION AGENCY

40 CFR Parts 61 and 63

[EPA-R06-OAR-2020-0086; FRL-12761-02-R6]

National Emission Standards for Hazardous Air Pollutants; Delegation of Authority to Oklahoma

AGENCY: Environmental Protection Agency (EPA).

ACTION: Final rule; notice of delegation.

SUMMARY: The Oklahoma Department of Environmental Quality (ODEQ) has submitted updated regulations for receiving delegation and approval of its program for the implementation and enforcement of certain National Emission Standards for Hazardous Air Pollutants (NESHAP) for all sources as provided for under previously approved delegation mechanisms. The updated State regulations incorporate by reference certain NESHAP promulgated by the Environmental Protection Agency (EPA) at parts 61 and 63, as they existed through June 30, 2023. The EPA is providing notice that it is taking final action to approve the delegation of certain NESHAP to ODEQ. The delegation of authority under this action applies to sources located in certain areas of Indian country as discussed herein.

DATES: This rule is effective on February 2, 2026.

ADDRESSES: The EPA has established a docket for this action under Docket ID No. EPA-R06-OAR-2020-0086. All documents in the docket are listed on the https://www.regulations.gov website. Although listed in the index, some information is not publicly available, e.g., Confidential Business Information (CBI) or other information whose disclosure is restricted by statute. Certain other material, such as copyrighted material, is not placed on the internet. Publicly available docket materials are available electronically through https://www.regulations.gov.

FOR FURTHER INFORMATION CONTACT: Clovis Steib, EPA Region 6 Office, Infrastructure and Ozone Section (ARSI), telephone number: (214) 665-7566, email address: steib.clovis@epa.gov.

SUPPLEMENTARY INFORMATION: Throughout this document “we,” “us,” and “our” means the EPA.

I. Background

The background for this action is discussed in detail in our July 10, 2025, proposal (90 FR 30613). In that document we proposed to approve updating the delegation of certain NESHAP to ODEQ. The delegation provides ODEQ with the primary responsibility to implement and enforce the delegated standards, as they existed through June 30, 2023.

II. Response to Comments

EPA received two anonymous public comments. One recommends EPA not delegate NESHAP implementation and enforcement authority to ODEQ on account of emissions from fossil fuels costing taxpayers. We thank the commenter for the comment but find it to be beyond the scope of this action. This action approves ODEQ's requested updates to its current NESHAP delegation, it does not speak to fossil fuel emissions more broadly, the appropriate regulatory mechanism for such emissions, or the cost associated with regulating the industry. The second comment recommends EPA encourage ODEQ to conduct integrated emissions planning that considers carbon dioxide emissions in addition to hazardous air pollutant (HAP) emissions. We thank the commenter for the comment but find the request to be beyond the scope of this action. As previously noted, this action approves ODEQ's requested updates to its current NESHAP delegation, it does not speak to Oklahoma's broader regulatory scheme or the regulation of emissions beyond HAPs. As such, we are finalizing the NESHAP delegation to ODEQ as proposed.

III. Impacts on Areas of Indian Country

Following the U.S. Supreme Court decision in McGirt v. Oklahoma, 140 S. Ct. 2452 (2020), the Governor of the State of Oklahoma requested approval under section 10211(a) of the Safe, Accountable, Flexible, Efficient Transportation Equity Act of 2005: A Legacy for Users, Public Law 109-59, 119 Stat. 1144, 1937 (August 10, 2005) (“SAFETEA”), to administer in certain areas of Indian country (as defined at 18 U.S.C. 1151) the State's environmental regulatory programs that were previously approved by the EPA outside of Indian country. The State's request excluded certain areas of Indian country further described below.

The EPA has approved Oklahoma's SAFETEA request to administer all of the State's EPA-approved environmental regulatory programs in the requested areas of Indian country. As requested by Oklahoma, the EPA's approval under SAFETEA does not include Indian country lands, including rights-of-way running through the same, that: (1) qualify as Indian allotments, the Indian titles to which have not been extinguished, under 18 U.S.C. 1151(c); (2) are held in trust by the United States on behalf of an individual Indian or Tribe; or (3) are owned in fee by a Tribe, if the Tribe (a) acquired that fee title to such land, or an area that included such land, in accordance with a treaty with the United States to which such Tribe was a party, and (b) never allotted the land to a member or citizen of the Tribe (collectively “excluded Indian country lands”).

The EPA's approval under SAFETEA expressly provided that to the extent the EPA's prior approvals of Oklahoma's environmental programs excluded Indian country, any such exclusions are superseded for the geographic areas of Indian country covered by the EPA's approval of Oklahoma's SAFETEA request. The approval also provided that future revisions or amendments to Oklahoma's approved environmental regulatory programs would extend to the covered areas of Indian country (without any further need for additional requests under SAFETEA).

As explained above, the EPA is finalizing an update to the Oklahoma NESHAP delegation which will apply statewide in Oklahoma. Consistent with the EPA's SAFETEA approval, this NESHAP delegation will apply to areas of Indian country pursuant to the SAFETEA approval, including to all Indian country in the State of Oklahoma other than the excluded Indian country lands as described above.

IV. Final Action

EPA is taking final action to approve updates to the Oklahoma NESHAP delegation so as to provide the ODEQ with the authority to implement and enforce certain newly incorporated NESHAP promulgated by the EPA and amendments to existing standards currently delegated, as they existed through June 30, 2023.

V. Statutory and Executive Order Reviews

Under the CAA, the Administrator has the authority to approve section 112(l) submissions that comply with the provisions of the Act and applicable Federal regulations. In reviewing section 112(l) submissions, the EPA's role is to approve State choices, provided that they meet the criteria and objectives of the CAA and of the EPA's implementing regulations. Accordingly, this action merely approves the State's request as meeting Federal requirements and does not impose additional requirements beyond those imposed by State law.

For this action, a review of all applicable Statutory and Executive Orders are indicated as follows:

A. Executive Order 12866: Regulatory Planning and Review and Executive Order 13563: Improving Regulation and Regulatory Review

This action is not a significant regulatory action as defined in Executive Order 12866 (58 FR 51735, October 4, 1993) and was therefore not submitted to the Office of Management and Budget (OMB) for review.

B. Executive Order 14192: Unleashing Prosperity Through Deregulation

This action is not an Executive Order 14192 regulatory action because this action is not significant under Executive Order 12866.

C. Paperwork Reduction Act (PRA)

This action does not impose an information collection burden under the PRA (44 U.S.C. 3501 et seq.) because it does not contain any information collection activities.

D. Regulatory Flexibility Act (RFA)

This action is certified to not have a significant economic impact on a substantial number of small entities under the RFA (5 U.S.C. 601 et seq.). This action approves the delegation of federal rules as requested by the state agency and will therefore have no net regulatory burden for all directly regulated small entities.

E. Unfunded Mandates Reform Act (UMRA)

This action does not contain an unfunded mandate as described in UMRA, 2 U.S.C. 1531-1538, and does not significantly or uniquely affect small governments. This action imposes no enforceable duty on any State, local, or Tribal governments or the private sector.

F. Executive Order 13132: Federalism

This action does not have federalism implications as specified in Executive Order 13132 (64 FR 43255, August 10, 1999). It will not have substantial direct effects on the states, on the relationship between the national government and the states, or on the distribution of power and responsibilities among the various levels of government.

G. Executive Order 13175: Consultation and Coordination With Indian Tribal Governments

This approval of ODEQ's request to update their NESHAP delegation will apply to certain areas of Indian country throughout Oklahoma as discussed in the preamble, and therefore has Tribal implications as specified in E.O. 13175 (65 FR 67249, November 9, 2000). However, this action will neither impose substantial direct compliance costs on federally recognized Tribal governments, nor preempt Tribal law. This action will not impose substantial direct compliance costs on federally recognized Tribal governments because no actions will be required of Tribal governments. This action will also not preempt Tribal law as no Oklahoma Tribe implements a regulatory program under the CAA, and thus does not have applicable or related Tribal laws. Consistent with the EPA Policy on Consultation and Coordination with Indian Tribes (December 7, 2023), the EPA has offered consultation to all 38 Tribal governments whose lands are located within the exterior boundaries of the State of Oklahoma and that may be affected by this action and provided information about this action.

H. Executive Order 13045: Protection of Children From Environmental Health Risks and Safety Risks

The EPA interprets Executive Order 13045 as applying only to regulatory actions considered significant under section 3(f)(1) of Executive Order 12866 and that concern environmental health or safety risks that EPA has reason to believe may disproportionately affect children, per the definition of “covered regulatory action” in section 2-202 of Executive Order 13045. This action is not subject to Executive Order 13045 because it approves a state program.

I. Executive Order 13211: Actions Concerning Regulations That Significantly Affect Energy Supply, Distribution or Use

This action is not subject to Executive Order 13211 (66 FR 28355, May 22, 2001), because it is not a significant regulatory action under Executive Order 12866.

J. National Technology Transfer and Advancement Act (NTTAA)

This rulemaking does not involve technical standards. This action is not subject to requirements of section 12(d) of the National Technology Transfer and Advancement Act of 1995 (15 U.S.C. 272 note) because application of those requirements would be inconsistent with the Clean Air Act (CAA).

K. Congressional Review Act (CRA)

This action is subject to the CRA, and the EPA will submit a rule report to each House of the Congress and to the Comptroller General of the United States. This action is not a “major rule” as defined by 5 U.S.C. 804(2).

Under section 307(b)(1) of the CAA, petitions for judicial review of this action must be filed in the United States Court of Appeals for the appropriate circuit by March 3, 2026. Filing a petition for reconsideration by the Administrator of this final rule does not affect the finality of this action for the purposes of judicial review nor does it extend the time within which a petition for judicial review may be filed and shall not postpone the effectiveness of such rule or action. This action may not be challenged later in proceedings to enforce its requirements (see section 307(b)(2)).

List of Subjects

40 CFR Part 61

Environmental protection, Air pollution control, Hazardous substances, Intergovernmental relations, Radioactive materials, Reporting and recordkeeping requirements, Uranium, Vinyl chloride.

40 CFR Part 63

Environmental protection, Air pollution control, Administrative practice and procedure, Business and industry, Carbon oxides, Hazardous substances, Intergovernmental relations, Nitrogen oxides, Ozone, Reporting and recordkeeping requirements, Sulfur oxides, Volatile organic compounds.

Authority: 42 U.S.C. 7401 et seq.

Dated: December 11, 2025.
James McDonald,
Director, Air and Radiation Division, Region 6.

For the reasons stated in the preamble, the Environmental Protection Agency amends 40 CFR parts 61 and 63 as follows:

PART 61—NATIONAL EMISSON STANDARDS FOR HAZARDOUS AIR POLLUTANTS

1. The authority citation for part 61 continues to read as follows:

Authority: 42 U.S.C. 7401 et seq.

Subpart A—General Provisions

2. Section 61.04 is amended by revising paragraph (c)(6)(iv) to read as follows:

§ 61.04 Address.

* * * * *

(c) * * *

(6) * * *

(iv) Oklahoma. The Oklahoma Department of Environmental Quality (ODEQ) has been delegated the following part 61 standards promulgated by EPA, as amended in the Federal Register through June 30, 2023. The (X) symbol is used to indicate each subpart that has been delegated.

Table 4 to Paragraph (c)(6)(iv)—Delegation Status for Part 61 Standards—State of Oklahoma
[Applies to sources located in certain areas of Indian country]
Subpart | Source category | ODEQ
A | General Provisions | X
B | Radon Emissions From Underground Uranium Mines | No
C | Beryllium | X
D | Beryllium Rocket Motor Firing | X
E | Mercury | X
F | Vinyl Chloride | X
G | (Reserved) |
H | Emissions of Radionuclides Other Than Radon From Department of Energy Facilities | No
I | Radionuclide Emissions From Federal Facilities Other Than Nuclear Regulatory Commission Licensees and Not Covered by subpart H | No
J | Equipment Leaks (Fugitive Emission Sources) of Benzene | X
K | Radionuclide Emissions From Elemental Phosphorus Plants | No
L | Benzene Emissions From Coke By-Product Recovery Plants | X
M | Asbestos | X
N | Inorganic Arsenic Emissions From Glass Manufacturing Plants | X
O | Inorganic Arsenic Emissions From Primary Copper Smelters | X
P | Inorganic Arsenic Emissions From Arsenic Trioxide and Metallic Arsenic Production Facilities | X
Q | Radon Emissions From Department of Energy Facilities | No
R | Radon Emissions From Phosphogypsum Stacks | No
S | (Reserved) |
T | Radon Emissions From the Disposal of Uranium Mill Tailings | No
U | (Reserved) |
V | Equipment Leaks (Fugitives Emission Sources) | X
W | Radon Emissions From Operating Mill Tailings | No
X | (Reserved) |
Y | Benzene Emissions From Benzene Storage Vessels | X
Z-AA | (Reserved) |
BB | Benzene Emissions From Benzene Transfer Operations | X
CC-EE | (Reserved) |
FF | Benzene Waste Operations | X
Appendix A | Compliance Status Information | X
Appendix B | Test Methods | X
Appendix C | Quality Assurance Procedures | X
Appendix D | Methods for Estimating Radionuclide Emissions | No
Appendix E | Compliance Procedures Methods for Determining Compliance With subpart I | No

* * * * *

PART 63—NATIONAL EMISSION STANDARDS FOR HAZARDOUS AIR POLLUTANTS FOR SOURCE CATEGORIES

3. The authority citation for part 63 continues to read as follows:

Authority: 42 U.S.C. 7401 et seq.

Subpart E—Approval of State Programs and Delegation of Federal Authorities

4. Section 63.99 is amended by revising paragraph (a)(37)(i) to read as follows:

§ 63.99 Delegated Federal authorities.

(a) * * *

(37) * * *

(i) The following table lists the specific part 63 standards that have been delegated unchanged to the Oklahoma Department of Environmental Quality for all sources. The “X” symbol is used to indicate each subpart that has been delegated. The delegations are subject to all of the conditions and limitations set forth in Federal law, regulations, policy, guidance, and determinations. Some authorities cannot be delegated and are retained by EPA. These include certain General Provisions authorities and specific parts of some standards. Any amendments made to these rules after June 30, 2023, are not delegated.

Table 14 to Paragraph (a)(37)(i)—Delegation Status for Part 63 Standards—State of Oklahoma
[Applies to sources located in certain areas of Indian country]
Subpart | Source category | ODEQ ¹
A | General Provisions | X
B | Requirements for Control Technology Determinations for Major Sources in Accordance with Clean Air Act sections 112(g) and 112(j) | X ²
C | List of Hazardous Air Pollutants, Petitions Process, Lesser Quantity Designations, Source Category List | No
D | Regulations Governing Compliance Extensions for Early Reductions of Hazardous Air Pollutants | No
E | Approval of State Programs and Delegation of Federal Authorities | No
F | Synthetic Organic Chemical Manufacturing Industry (SOCMI) | X
G | SOCMI for Process Vents, Storage Vessels, Transfer Operations and Wastewater | X
H | Equipment Leaks and Fenceline Monitoring for All Emission Sources | X
I | Certain Processes Subject to the Negotiated Regulation for Equipment Leaks | X
J | Polyvinyl Chloride and Copolymers Production | (³)
K | (Reserved) |
L | Coke Oven Batteries | X
M | Perchloroethylene Air Emission Standards for Dry Cleaning Facilities | X
N | Chromium Emissions from Hard and Decorative Chromium Electroplating and Chromium Anodizing Tanks | X
O | Ethylene Oxide Emissions Standards for Sterilization Facilities | X
P | (Reserved) |
Q | Industrial Process Cooling Towers | X
R | Gasoline Distribution Facilities (Bulk Gasoline Terminals and Pipeline Breakout Sessions) | X
S | Pulp and Paper Industry | X
T | Halogenated Solvent Cleaning | X
U | Group I Polymers and Resins | X
V | (Reserved) |
W | Epoxy Resins Production and Non-Nylon Polyamides Production | X
X | Secondary Lead Smelting | X
Y | Marine Tank Vessel Loading Operations | X
Z | (Reserved) |
AA | Phosphoric Acid Manufacturing Plants | X
BB | Phosphate Fertilizers Production Plants | X
CC | Petroleum Refineries | X
DD | Off-Site Waste and Recovery Operations | X
EE | Magnetic Tape Manufacturing Operations | X
FF | (Reserved) |
GG | Aerospace Manufacturing and Rework Facilities | X
HH | Oil and Natural Gas Production Facilities | X
II | Shipbuilding and Ship Repair (Surface Coating) | X
JJ | Wood Furniture Manufacturing Operations | X
KK | Printing and Publishing Industry | X
LL | Primary Aluminum Reduction Plants | X
MM | Chemical Recovery Combustion Sources at Kraft, Soda, Sulfite, and Stand-Alone Semichemical Pulp Mills | X
NN | Wool Fiberglass Manufacturing at Area Sources | X
OO | Tanks—Level 1 | X
PP | Containers | X
QQ | Surface Impoundments | X
RR | Individual Drain Systems | X
SS | Closed Vent Systems, Control Devices, Recovery Devices and Routing to a Fuel Gas System or a Process | X
TT | Equipment Leaks—Control Level 1 | X
UU | Equipment Leaks—Control Level 2 Standards | X
VV | Oil-Water Separators and Organic-Water Separators | X
WW | Storage Vessels (Tanks)—Control Level 2 | X
XX | Ethylene Manufacturing Process Units: Heat Exchange Systems and Waste Operations | X
YY | Generic Maximum Achievable Control Technology Standards | X
ZZ-BBB | (Reserved) |
CCC | Steel Pickling—HCl Process Facilities and Hydrochloric Acid Regeneration Plants | X
DDD | Mineral Wool Production | X
EEE | Hazardous Waste Combustors | X
FFF | (Reserved) |
GGG | Pharmaceuticals Production | X
HHH | Natural Gas Transmission and Storage Facilities | X
III | Flexible Polyurethane Foam Production | X
JJJ | Group IV Polymers and Resins | X
KKK | (Reserved) |
LLL | Portland Cement Manufacturing Industry | X
MMM | Pesticide Active Ingredient Production | X
NNN | Wool Fiberglass Manufacturing | X
OOO | Manufacture of Amino/Phenolic Resins | X
PPP | Polyether Polyols Production | X
QQQ | Primary Copper Smelting | X
RRR | Secondary Aluminum Production | X
SSS | (Reserved) |
TTT | Primary Lead Smelting | X
UUU | Petroleum Refineries: Catalytic Cracking Units, Catalytic Reforming Units, and Sulfur Recovery Plants | X
VVV | Publicly Owned Treatment Works | X
WWW | (Reserved) |
XXX | Ferroalloys Production: Ferromanganese and Silicomanganese | X
AAAA | Municipal Solid Waste Landfills | X
BBBB | (Reserved) |
CCCC | Nutritional Yeast Manufacturing | X
DDDD | Plywood and Composite Wood Products | X ⁴
EEEE | Organic Liquids Distribution (Non-Gasoline) | X
FFFF | Miscellaneous Organic Chemical Manufacturing | X
GGGG | Solvent Extraction for Vegetable Oil Production | X
HHHH | Wet-Formed Fiberglass Mat Production | X
IIII | Surface Coating of Automobiles and Light-Duty Trucks | X
JJJJ | Paper and other Web Coating | X
KKKK | Surface Coating of Metal Cans | X
MMMM | Surface Coating of Miscellaneous Metal Parts and Products | X
NNNN | Surface Coating of Large Appliances | X
OOOO | Printing, Coating, and Dyeing of Fabrics and Other Textiles | X
PPPP | Surface Coating of Plastic Parts and Products | X
QQQQ | Surface Coating of Wood Building Products | X
RRRR | Surface Coating of Metal Furniture | X
SSSS | Surface Coating for Metal Coil | X
TTTT | Leather Finishing Operations | X
UUUU | Cellulose Products Manufacturing | X
VVVV | Boat Manufacturing | X
WWWW | Reinforced Plastic Composites Production | X
XXXX | Rubber Tire Manufacturing | X
YYYY | Stationary Combustion Turbines | X
ZZZZ | Stationary Reciprocating Internal Combustion Engines | X
AAAAA | Lime Manufacturing Plants | X
BBBBB | Semiconductor Manufacturing | X
CCCCC | Coke Ovens: Pushing, Quenching and Battery Stacks | X
DDDDD | Industrial, Commercial, and Institutional Boilers and Process Heaters | X ⁵
EEEEE | Iron and Steel Foundries | X
FFFFF | Integrated Iron and Steel Manufacturing Facilities | X
GGGGG | Site Remediation | X
HHHHH | Miscellaneous Coating Manufacturing | X
IIIII | Mercury Cell Chlor-Alkali Plants | X
JJJJJ | Brick and Structural Clay Products Manufacturing | X ⁶
KKKKK | Clay Ceramics Manufacturing | X ⁶
LLLLL | Asphalt Processing and Asphalt Roofing Manufacturing | X
MMMMM | Flexible Polyurethane Foam Fabrication Operation | X
NNNNN | Hydrochloric Acid Production | X
OOOOO | (Reserved) |
PPPPP | Engine Test Cells/Stands | X
QQQQQ | Friction Materials Manufacturing Facilities | X
RRRRR | Taconite Iron Ore Processing | X
SSSSS | Refractory Products Manufacturing | X
TTTTT | Primary Magnesium Refining | X
UUUUU | Coal and Oil-Fired Electric Utility Steam Generating Units | X ⁷
VVVVV | (Reserved) |
WWWWW | Hospital Ethylene Oxide Sterilizers | X
XXXXX | (Reserved) |
YYYYY | Area Sources: Electric Arc Furnace Steelmaking Sources | X
ZZZZZ | Iron and Steel Foundries Area Sources | X
AAAAAA | (Reserved) |
BBBBBB | Gasoline Distribution Bulk Terminals, Bulk Plants, and Pipeline Facilities | X
CCCCCC | Gasoline Dispensing Facilities | X
DDDDDD | Polyvinyl Chloride and Copolymers Production Area Sources | X
EEEEEE | Primary Copper Smelting Area Sources | X
FFFFFF | Secondary Copper Smelting Area Sources | X
GGGGGG | Primary Nonferrous Metals Area Sources: Zinc, Cadmium, and Beryllium | X
HHHHHH | Paint Stripping and Miscellaneous Surface Coating Operations at Area Sources | X
IIIIII | (Reserved) |
JJJJJJ | Industrial, Commercial, and Institutional Boilers Area Sources | X
KKKKKK | (Reserved) |
LLLLLL | Acrylic and Modacrylic Fibers Production Area Sources | X
MMMMMM | Carbon Black Production Area Sources | X
NNNNNN | Chemical Manufacturing Area Sources: Chromium Compounds | X
OOOOOO | Flexible Polyurethane Foam Production and Fabrication Area Sources | X
PPPPPP | Lead Acid Battery Manufacturing Area Sources | X
QQQQQQ | Wood Preserving Area Sources | X
RRRRRR | Clay Ceramics Manufacturing Area Sources | X
SSSSSS | Glass Manufacturing Area Sources | X
TTTTTT | Secondary Nonferrous Metals Processing Area Sources | X
UUUUUU | (Reserved) |
VVVVVV | Chemical Manufacturing Area Sources | X
WWWWWW | Area Source Standards for Plating and Polishing Operations | X
XXXXXX | Area Source Standards for Nine Metal Fabrication and Finishing Source Categories | X
YYYYYY | Area Sources: Ferroalloys Production Facilities | X
ZZZZZZ | Area Source Standards for Aluminum, Copper, and Other Nonferrous Foundries | X
AAAAAAA | Area Sources: Asphalt Processing and Asphalt Roofing Manufacturing | X
BBBBBBB | Area Sources: Chemical Preparation Industry | X
CCCCCCC | Area Sources: Paints and Allied Products Manufacturing | X
DDDDDDD | Prepared Feeds Areas Sources | X
EEEEEEE | Gold Mine Ore Processing and Production Area Source Category | X
FFFFFFF-GGGGGGG | (Reserved) |
HHHHHHH | Polyvinyl Chloride and Copolymers Production Major Sources | X
Appendix A | Test Methods | X
Appendix B | Sources Defined by Rarely Reduction Provisions | X
Appendix C | Determination of the Fraction Biodegraded (Fbio) in a Biological Treatment Unit | X
Appendix D | Alternative Validation Procedure for EPA Waste and Wastewater Methods | X
Appendix E | Monitoring Procedure for Nonthoroughly Mixed Open Biological Treatment Systems at Kraft Pulp Mills Under Unsafe Sampling Conditions | X
¹ Authorities which may not be delegated include: § 63.6(g), Approval of Alternative Non-Opacity Emission Standards; § 63.6(h)(9), Approval of Alternative Opacity Standards; § 63.7(e)(2)(ii) and (f), Approval of Major Alternatives to Test Methods; § 63.8(f), Approval of Major Alternatives to Monitoring; § 63.10(f), Approval of Major Alternatives to Recordkeeping and Reporting; and all authorities identified in the subparts (e.g., under “Delegation of Authority”) that cannot be delegated.
² Sections 63.41, 63.43, and 63.44 only of subpart B.
³ The ODEQ has adopted the subpart unchanged and applied for delegation of the standard. The subpart was vacated and remanded to EPA by the United States Court of Appeals for the District of Columbia Circuit. See, Mossville Environmental Action Network v. EPA, 370 F. 3d 1232 (D.C. Cir. 2004). Because of the D.C. Court's holding this subpart is not delegated to ODEQ at this time.
⁴ This subpart was issued a partial vacatur by the United States Court of Appeals for the District of Columbia Circuit. See 72 FR 61060 (October 29, 2007).
⁵ Final rule. See 76 FR 15608 (March 21, 2011), as amended at 78 FR 7138 (January 31, 2013); 80 FR 72807 (November 20, 2015).
⁶ Final promulgated rule adopted by the EPA. See 80 FR 65470 (October 26, 2015). Note that subpart 63 KKKKK was amended to correct minor typographical errors at 80 FR 75817 (December 4, 2015).
⁷ Final Rule. See 77 FR 9304 (February 16, 2012), as amended 81 FR 20172 (April 6, 2016) Final Supplemental Finding that it is appropriate and necessary to regulate HAP emissions from Coal- and Oil-fired EUSGU Units. See 81 FR 24420 (April 25, 2016).

* * * * *

[FR Doc. 2025-24149 Filed 12-31-25; 8:45 am]

BILLING CODE 6560-50-P